SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 1 p.m. on December 17, 2009, in Lancaster, Pa. At the public hearing, the Commission will consider: action on certain water resources projects; a compliance matter involving one project; the rescission of a previous docket approval; a request for an extension of an approval; a request for an administrative hearing; the 2010 Regulatory Program Fee Schedule; and amendments to the SRBC Comprehensive Plan. Details concerning the matters to be addressed at the public hearing and business meeting are contained in the Supplementary Information section of this notice.

DATES: December 17, 2009, at 1 p.m.

ADDRESSES: Lancaster Marriot at Penn Square, 25 South Queen Street, Lancaster, PA 17603.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) A special presentation by Secretary of the Pennsylvania Department of Environmental Protection John Hanger; (2) presentation of the Frederick L. Zimmermann Award; (3) hydrologic conditions of the basin; 4) FY-2011 funding of the Susquehanna Flood Forecast and Warning System; (5) the 2010 Annual Water Resources Program; (6) a Low Flow Monitoring Plan for the basin; (7) ratification/approval of grants/contracts; and (8) the FY-2009 Audit Report. The Commission will also hear a Legal Counsel's report.

Public Hearing—Compliance Matter

1. Project Sponsor: TYCO Electronics Corporation. Project Facility: Lickdale, Union Township, Lebanon County, Pa.

Public Hearing—Projects Scheduled for Action

1. Project Sponsor and Facility: Chesapeake Appalachia, LLC (Susquehanna River—Hicks), Great Bend Township, Susquehanna County, Pa. Application for surface water withdrawal of up to 0.750 mgd.

2. Project Sponsor and Facility: East Resources, Inc. (Susquehanna River—Welles), Sheshequin Township, Bradford County, Pa. Application for surface water withdrawal of up to 0.850 mgd.

3. Project Sponsor and Facility: Eastern American Energy Corporation (West Branch Susquehanna River—Moore), Goshen Township, Clearfield County, Pa. Application for surface water withdrawal of up to 2.000 mgd.

4. Project Sponsor and Facility: Fortuna Energy Inc. (Fall Brook—Tioga State Forest C.O.P.), Ward Township, Tioga County, Pa. Application for surface water withdrawal of up to 2.000 mgd.

5. Project Sponsor and Facility: Fortuna Energy Inc. (Fellows Creek—Tioga State Forest C.O.P.), Ward Township, Tioga County, Pa. Application for surface water withdrawal of up to 2.000 mgd.

6. Project Sponsor and Facility: Fortuna Energy Inc. (Susquehanna River—Thrush), Sheshequin Township, Bradford County, Pa. Modification to increase surface water withdrawal from 0.250 mgd up to 2.000 mgd (Docket No. 20080909).

7. Project Sponsor and Facility: Montgomery Water and Sewer Authority, Clinton Township, Lycoming County, Pa. Application for groundwater withdrawal of up to 0.252 mgd from Well 2R.

8. Project Sponsor and Facility: Nissin Foods (USA) Co., Inc., East Hempfield Township, Lancaster County, Pa. Modification to increase consumptive water use from 0.090 mgd up to 0.150 mgd (Docket No. 20021021).

9. Project Sponsor and Facility: Southwestern Energy Company (Lycoming Creek—Reichenbach), Lewis Township, Lycoming County, Pa. Application for surface water withdrawal of up to 1.500 mgd.

10. Project Sponsor and Facility: Southwestern Energy Company (Lycoming Creek—Wascher), Lewis Township, Lycoming County, Pa. Application for surface water withdrawal of up to 1.500 mgd.

11. Project Sponsor and Facility: Southwestern Energy Company (Lycoming Creek—Parent), McIntyre Township, Lycoming County, Pa. Application for surface water withdrawal of up to 1.500 mgd.

12. Project Sponsor and Facility: Southwestern Energy Company (Lycoming Creek—Schaefer), McIntyre Township, Lycoming County, Pa. Application for surface water withdrawal of up to 1.500 mgd.

13. Project Sponsor and Facility: Sunbury Generation LP, Monroe Township and Shamokin Dam Borough, Snyder County, Pa. Modification for use of up to 0.100 mgd of the approved surface water withdrawal by natural gas companies (Docket No. 20081222).

Public Hearing—Request for Extension

1. Project Sponsor and Facility: Sunnyside Ethanol, a wholly owned-subsidiary of Consus Ethanol, LLC, Curwensville Borough, Clearfield County, Pa. Request for a waiver of the 120-day period for applying for extension and a retroactive 2-year extension for the project scheduled to expire on December 5, 2009 (Docket No. 20061203).

Public Hearing—Project Scheduled for Rescission Action

1. Project Sponsor: Eastern American Energy Corporation. Pad ID: Whitetail Gun and Rod Club #1, ABR-20090418, Goshen Township, Clearfield County, Pa.

Public Hearing—Request for Administrative Hearing

1. Petitioner Delta Borough, York County, Pennsylvania; RE: Delta Borough Public Water Supply Well No. DR-2; Docket No. 20090315, approved March 12, 2009.

Public Hearing—2010 Regulatory Program Fee Schedule

The revisions implement annual adjustments previously established by the Commission in March 2005. Other changes include annual compliance and monitoring fees for projects approved or modified after December 31, 2009; an increase in certain water withdrawal application fees for new and modified projects in the smaller withdrawal categories; and comprehensive format changes to the fee schedule document to aid applicants, including separate charts for different types of fees and a new application fee worksheet.

Public Hearing—Comprehensive Plan Amendments

The Commission will also consider amendments to its Comprehensive Plan for the Water Resources of the Susquehanna River Basin. The proposed amendments include the addition of the 2010 Annual Water Resources Program and a “Low Flow Monitoring Plan” (both to be considered separately at this meeting), as well as all water resources projects approved by the Commission during 2009.

Opportunity to Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to December 11, 2009, to be considered.

Authority: Public Law 91-575, 84 Stat. 1509 et seq., 18 CFR Parts 806, 807, and 808.

Dated: November 17, 2009.
Stephanie L. Richardson,
Secretary to the Commission.

[FR Doc. E9-28516 Filed 11-27-09; 8:45 am]

BILLING CODE 7040-01-P